DEPARTMENT OF ENERGY

Notice of Availability of a Draft Supplement Analysis for Disposal of Depleted Uranium Oxide Conversion Product Generated From Doe's Inventory of Depleted Uranium Hexafluoride

AGENCY: Department of Energy.

ACTION: Notice of availability of a draft supplement analysis.

SUMMARY: DOE has prepared a Draft Supplement Analysis (SA) pursuant to DOE regulations implementing the National Environmental Policy Act (NEPA), 10 CFR 1021.314. The draft SA addresses DOE's proposal to dispose of the depleted uranium oxide conversion product at either the DOE-owned low-level radioactive waste disposal facility at the Nevada Test Site (NTS) or at EnergySolutions LLC, a commercial low-level waste disposal facility in Clive, Utah (EnergySolutions; formerly known as Envirocare of Utah, Inc.).

In April 1999, the U.S. Department of Energy (DOE) published a Programmatic Environmental Impact Statement (PEIS) for management of its Depleted Uranium Hexafluoride (DUF6) inventory. The PEIS included a generic assessment of the disposal of depleted uranium oxide conversion product (as U3O8 or UO2) and concluded that disposal of either product in shallow earthen structures, vaults, or mines would adequately protect human health and the environment over the time period considered, as long as the disposal facility is located in a dry environment and appropriately engineered (e.g., the cover material is maintained). Subsequently, DOE prepared site-specific final Environmental Impact Statements (EISs) for construction and operation of DUF6 conversion facilities at the DOE's Paducah, Kentucky, and Portsmouth, Ohio, sites in the Final Environmental Impact Statement for Construction and Operation of a Depleted Uranium Hexafluoride Conversion Facility at the Paducah, Kentucky Site, DOE/EIS-0359, and the Final Environmental Impact Statement for Construction and Operation of a Depleted Uranium Hexafluoride Conversion Facility at the Portsmouth, Ohio Site, DOE/EIS-0360. DOE published its Record of Decision for Construction and Operation of a Depleted Uranium Hexafluoride Conversion Facility at the Paducah, Kentucky Site, and Record of Decision for Construction and Operation of a Depleted Uranium Hexafluoride Conversion Facility at the Portsmouth, Ohio Site (RODs) on July 27, 2004 (69 FR 44649 and 69 FR 44654).

In each site-specific ROD, DOE announced its decision to implement the actions described as the preferred alternative in the corresponding conversion facility EIS, which included the following actions:

• DOE will construct and operate a conversion facility at Location A within each of the Paducah and Portsmouth sites.

• All shipments to and from the conversion facility sites, including any potential shipments of non-DUF6 cylinders currently stored at the East Tennessee Technology Park (ETTP), will be conducted by either truck or rail, as appropriate. Cylinders will be shipped in a manner that is consistent with U.S. Department of Transportation (DOT) regulations for the shipment of UF6 cylinders.

• Current cylinder management activities (handling, inspection, monitoring, and maintenance) will continue, consistent with Cylinder Project Management Plan for Depleted Uranium Hexafluoride, effective October 2003, which covers actions needed to meet safety and environmental requirements, until conversion can be accomplished.

• The aqueous hydrofluoric acid (HF) produced during conversion will be sold for use. If necessary, calcium fluoride (CaF2) will be produced and reused, or disposed of as appropriate.

• The depleted uranium oxide conversion product will be reused to the extent possible or packaged in emptied cylinders for disposal at an appropriate disposal facility. DOE plans to decide the specific disposal location(s) for the depleted uranium oxide conversion product after additional appropriate NEPA review. Accordingly, DOE will continue to evaluate its disposal options and will consider any further information or comments relevant to that decision. DOE will give a minimum 45-day notice before making the specific disposal decision and will provide any supplemental NEPA analysis for public review and comment.

The conversion facility RODs did not declare a decision regarding the location for disposal of depleted uranium oxide conversion product. The reason DOE did not make its disposal decision at the time it issued the RODs for construction and operation of the two DUF6 conversion facilities is that it discovered that it had, through an oversight, not served copies of the draft and final site-specific EISs (DOE 2004a, b) to the States of Utah, home of EnergySolutions, and Nevada, home of NTS, as required in 40 CFR 1502.19. As a result, each ROD states DOE's intention to decide the specific disposal location(s) for the depleted uranium oxide conversion product after additional appropriate NEPA review.

This draft SA addresses the additional appropriate NEPA review committed to in the earlier RODs. The draft SA identifies no significant new circumstances or information relevant to environmental concerns that bear on DOE's decisions on disposal locations or the impacts of those decisions. Based on the draft SA that is the subject of this Notice, DOE believes that a supplemental EIS is not needed to support amending the conversion facility RODs to decide the disposal location for the depleted uranium oxide conversion product. The depleted uranium oxide conversion product may be disposed either at the EnergySolutions low-level waste disposal facility or at the NTS low-level waste disposal facility. DOE plans to issue amended RODs under the conversion facility EISs no sooner than 45 days from the publication of this Notice.

DATES: DOE will consider all public comments on this matter submitted by May 18, 2007.

ADDRESSES: Comments should be submitted electronically via the Web at http://web.ead.anl.gov/uranium/ or by regular mail. Written comments can be mailed to: DU Disposal Supplement Analysis Comment, Argonne National Laboratory, Building 900, Mail Stop 3, 9700 S. Cass Avenue, Argonne, IL 60439.

FOR FURTHER INFORMATION CONTACT: Copies of the Supplement Analysis for Disposal of Depleted Uranium Oxide Conversion Product Generated From DOE's Inventory of Depleted Uranium Hexafluoride (DOE/EIS-0359/0360-SA-001) is available on the Depleted UF6 Management Information Network at: http://web.ead.anl.gov/uranium/, and on DOE's NEPA Web site at http://www.eh.doe.gov/nepa/whatsnew.html. To request printed copies of this document, please write: DU Disposal Supplement Analysis Comment, Argonne National Laboratory, Building 900, Mail Stop 3, 9700 S. Cass Avenue, Argonne, IL 60439.

For further information on DOE's NEPA process, contact: Ms. Carol Borgstrom, Director, Office of NEPA Policy and Compliance, GC-20, U.S. Department of Energy, 1000 Independence Avenue, SW., Washington, DC 20585, Telephone: 202-586-4600, or leave a message at 1-800-472-2756.

SUPPLEMENTARY INFORMATION: Uranium Disposition Services, LLC (UDS) began construction of the DUF6 conversion facilities at Paducah, Kentucky and Portsmouth, Ohio in July 2004. The main products from the conversion of DOE's inventory of DUF6 will be depleted uranium oxide conversion product and aqueous hydrogen fluoride (HF). The quantities of depleted uranium oxide conversion product produced annually will be approximately 10,800 metric tons (t) (11,800 tons) at Portsmouth and 14,300 t (15,800 tons) at Paducah. UDS is planning to sell the HF product to a commercial user.

In addition to depleted uranium oxide conversion product, two other products from the conversion process require disposal: (1) Emptied DUF6 cylinders and (2) a relatively small quantity of CaF2 (approximately 18 t [20 tons] at Portsmouth and 24 t [26 tons] at Paducah annually). UDS is planning to use the emptied cylinders as disposal containers for the depleted uranium oxide conversion product. Therefore, the emptied cylinders would become part of the depleted uranium oxide waste stream. Any cylinders not used as disposal containers would be disposed of as low-level waste at an appropriate facility in compliance with applicable regulations. The small quantity of CaF2 would be disposed with the unused depleted uranium oxide. Therefore, the unused depleted uranium oxide, most of the emptied cylinders, and the small quantity of CaF2 would be sent to the same disposal facility.

The PEIS considered the environmental impacts of six alternative strategies for long-term management of DOE's DUF6 inventory. The alternative strategies included: (1) Options for continued storage of DUF6 in cylinders at the three sites where it was stored (Paducah, KY, Portsmouth, OH, and ETTP in Oak Ridge, TN); (2) long-term storage as DUF6 at a consolidated site; (3) conversion of the DUF6 to an oxide followed by long-term storage; (4) conversion to an oxide or depleted uranium metal followed by use; (5) conversion to an oxide followed by disposal; and (6) no action. The analyses of the long-term storage and disposal alternatives included the transportation of the depleted uranium oxide to generic storage or disposal sites located 155 mi (250 km), 620 mi (1,000 km), or 3,100 mi (5,000 km) from the conversion facilities. DOE analyzed the impacts of depleted uranium conversion product disposal using generic assumptions about disposal site characteristics, rather than actual characteristics for any particular disposal site. A technical support document for the PEIS investigated the feasibility of depleted uranium disposal at six low-level waste disposal facilities based on waste acceptance criteria, available capacity, and disposal cost (Depleted Uranium Storage and Disposal Trade Study: Summary Report, ORNL/TM-2000/10). This document and subsequent follow-up studies have verified that the only currently operating dry-environment, low-level waste disposal facilities that are feasible for disposal of the depleted uranium oxide conversion product are the NTS and EnergySolutions facilities.

Like the PEIS, site-specific EISs for each conversion facility assumed that depleted uranium oxide would be classified as low-level waste. This assumption is consistent with a recent ruling by the U.S. Nuclear Regulatory Commission (NRC) in the licensing proceeding for a commercial uranium enrichment facility (NRC 2005a,b,c,d and 2006a,b). The site-specific EISs stated that the disposal facility (or facilities) would be (1) selected in a manner consistent with DOE policies and orders, and (2) authorized or licensed to receive the conversion products by DOE (in conformance with DOE orders), the NRC (in conformance with NRC regulations), or an NRC agreement state agency (in conformance with state laws and regulations determined to be equivalent to NRC regulations).

DOE is now proposing to amend the site-specific RODs to decide that the depleted uranium oxide conversion product may be disposed of at either the NTS or the EnergySolutions low-level waste disposal facilities. Accordingly, DOE has prepared the draft SA that is the subject of this Notice. All other aspects of the depleted DUF6 conversion program remain as previously described in the site-specific EISs and RODs.

The draft SA identifies no significant new circumstances or information relevant to environmental concerns that bear on DOE's decisions on disposal locations or the impacts of those decisions. Since issuance of the two site-specific DUF6 conversion facility final EISs, the following circumstances have changed. In May 2006, a contract was signed with Solvay Fluorides, a commercial vendor, for purchase of the HF co-product. On June 2, 2006, the NRC issued an order that determined that the Envirocare (now EnergySolutions) site near Clive, Utah, appears to be suitable for near-term disposal of depleted uranium. The transportation campaign has been slightly modified to include more cylinders per railcar with fewer shipments per year. Impacts from the modified campaign for both operations and accident scenarios are projected to be about the same as those presented in the site-specific EISs.

DOE believes, based on the analysis in the draft SA, that disposal at either NTS or EnergySolutions low-level waste disposal facilities are reasonable alternatives. Regarding the alternative of disposal at the EnergySolutions facility, DOE believes that adequate NEPA documentation exists to support disposal of any unused depleted uranium oxide conversion product as well as for emptied DUF6 cylinders that would be used for disposal containers and the small quantity of CaF2 that would be generated during the conversion process. With respect to NTS low-level waste facility, the draft SA analyses show that there is adequate NEPA coverage for all actions leading up to delivery at the NTS and that site-specific NEPA coverage at the NTS is adequate for disposal of up to 60,000 m³ of unused depleted uranium oxide conversion product. Furthermore, upcoming reviews of the NTS site-wide EIS will evaluate disposal of additional uranium oxide conversion product volumes at NTS. Accordingly, DOE believes that a supplemental EIS (or an environmental assessment) is not needed to support amending the site-specific RODs to address disposal of the depleted uranium oxide conversion product.

DOE plans to issue amended RODs under the conversion facility EISs no sooner than 30 days after issuance of the final SA. DOE will consider all public comments on the draft SA submitted by May 18, 2007.

Issued in Washington, DC, March 27, 2007.
Mark W. Frei,
Deputy Assistant Secretary for Program Planning and Budget.

[FR Doc. E7-6039 Filed 4-2-07; 8:45 am]

BILLING CODE 6450-01-P